NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by July 18, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-002

1. Applicant: Jesse Naiman, Pathfinder Aviation, 1936 Merrill Field Drive, Anchorage, AK 99501.

Activity for Which Permit is Requested: Enter Antarctic Specially Protected Area. The applicant requests an ACA permit to enter ASPA 124—Cape Crozier using a helicopter, below 2,000 feet, should weather require. The flights are required to support U.S. Antarctic Program science and management activities in the Cape Crozier area. Helicopter flights would not occur in the vicinity of wildlife at Cape Crozier, and all activities would be consistent with the management plan for the ASPA. Up to a total of 20 flights under 2,000 ft are requested per year.

Location: ASPA 124—Cape Crozier.

Dates of Permitted Activities: October 1, 2024-March 1, 2026.

Permit Application: 2025-001

2. Applicant: Link Olson, University of Alaska Museum Mammal Collection, 1962 Yukon Drive, Fairbanks, AK 99775.

Activity for Which Permit is Requested: Export From USA. The applicant requests a permit to export 6 crabeater seal (Lobodon carcinophaga) blood samples. The samples are part of the archived specimens in the University of Alaska Museum Mammal collection and would be exported to a science collaborator at the Bielefeld University, Germany for genetic analysis. The permit applicant currently holds a Marine Mammal Protection Act permit to receive, possess, import and export the samples in their possession.

Location: None.

Dates of Permitted Activities: July 1, 2024-December 31, 2024.

Kimiko S. Bowens-Knox,
Program Analyst, Office of Polar Programs.

[FR Doc. 2024-13332 Filed 6-17-24; 8:45 am]

BILLING CODE 7555-01-P